DEPARTMENT OF COMMERCE

International Trade Administration

Notice of Scope Rulings

AGENCY: Enforcement and Compliance, International Trade Administration, Department of Commerce.

SUMMARY: The U.S. Department of Commerce (Commerce) hereby publishes a list of scope rulings and circumvention determinations made during the period January 1, 2025, through March 31, 2025. We intend to publish future lists after the close of the next calendar quarter.

DATES: Applicable April 29, 2025.

FOR FURTHER INFORMATION CONTACT: Marcia E. Short, AD/CVD Operations, Customs Liaison Unit, Enforcement and Compliance, International Trade Administration, U.S. Department of Commerce, 1401 Constitution Avenue NW, Washington, DC 20230; telephone: (202) 482-1560.

SUPPLEMENTARY INFORMATION:

Background

Commerce regulations provide that it will publish in the Federal Register a list of scope rulings on a quarterly basis.¹ Our most recent notification of scope rulings was published on February 24, 2025.² This current notice covers all scope rulings made by Enforcement and Compliance between January 1, 2025, and March 31, 2025.

¹ See 19 CFR 351.225(o).

² See Notice of Scope Rulings, 90 FR 10474 (February 24, 2025).

Final Scope Rulings Made January 1, 2025, Through March 31, 2025

Mexico

A-201-845 and C-201-846: Sugar From Mexico

Requestor: Total Sweeteners Inc. DBA Batory Foods and Rafi Industries, Inc. DBA Chicago Sweeteners. Powdered sugar processed and packaged in Mexico by Batory and Rafi and containing 95 percent or more by dry weight of U.S.-origin refined sugar is not subject to the scope of the agreements suspending the antidumping duty (AD) and countervailing duty (CVD) suspension agreements on sugar from Mexico because, based on the plain language of the scope, the merchandise meets the scope exclusion definition for a sugar product produced in Mexico that contains 95 percent or more sugar by dry weight that originated outside of Mexico: February 28, 2025

People's Republic of China (China)

A-570-117 and C-570-118: Wood Mouldings and Millwork Products From China

Requestor: Ralph Friedland & Brother, Inc's wooden window shade slats imported from China are not covered by the AD and CVD orders on wood mouldings and millwork products because they are not commonly used in construction applications and function as a component of a window shade slat that resemble scrap merchandise with no commercial purpose other than their function as a component of a window shade: January 14, 2025.

A-570-088 and C-570-089: Certain Steel Racks and Parts Thereof From China

Requestor: LEDVANCE LLC steel pods are not covered by the scope of the AD and CVD orders on certain steel racks and parts thereof from China because the products do not meet the description of the physical characteristics of subject merchandise. Specifically, the width of the vertical load bearing members does not exceed two inches for Pod-A. Pod-C is not covered by the scope of the Orders because it is not a steel rack based on the scope description: January 21, 2025.

A-570-967 and C-570-968: Aluminum Extrusions From China

Requestor: HTM MBS LLC. Cable (MBS) display systems imported by MBS are not covered by the scope of the AD and CVD orders on aluminum extrusions from China because they are imported as finished goods kits containing all necessary components for assembly and installation, including steel cables, fittings milled from extruded aluminum, anchors, screws and Allen Wrenches: February 13, 2025.

A-570-090 and C-570-091: Certain Steel Wheels 12 to 16.5 Inches in Diameter From China

Requestor: Keystone Automotive Industries Inc. Fourteen models of passenger vehicle and light truck wheels produced in China and imported by Keystone are not covered by the scope of the AD and CVD orders on certain steel wheels 12 to 16.5 inches in diameter from China because the record supports that they may be differentiated from subject merchandise based on certain physical factors, including rim size, offset, bolt pattern, hub bore (or center hole) size, and load rating/capacity consistent with numerous prior scope rulings concerning similar products: February 24, 2025.

A-570-018 and C-570-019: Boltless Steel Shelving Units Prepackaged for Sale From China

Requestor: LEDVANCE LLC pods are not covered by the scope of the AD and CVD orders on boltless steel shelving units prepackaged for sale from China because the products do not meet the physical or packaging characteristics of subject merchandise. Pod-C is a standalone welded pod with no vertical or horizontal supports and is not assembled in a boltless fashion. Pod-A includes additional supports but is not prepackaged for resale. Both products were imported for internal use and qualify for exclusion from the scope of the Orders: February 28, 2025.

A-570-891: Hand Trucks and Certain Parts Thereof From China

Requestor: Utility Transportation Carts, Inc. The Flatbed Utility Cart imported by Utility Transportation Carts, Inc. is not subject to the scope of the AD order on hand trucks and certain parts thereof from China because it does not contain a projecting edge or toe plate: March 10, 2025.

Preliminary Determinations Made January 1, 2025, Through March 31, 2025

China

A-570-082: Leading Wheel Certain Steel Wheels From the China

Requestor: Leading Wheel Company Limited (Leading Wheel)'s certain steel wheels are preliminarily determined to not be covered by the scope of the AD and CVD orders on certain steel wheels from China because Leading Wheel produces rims and discs in Thailand from Chinese steel plates: March 4, 2025.

Notification to Interested Parties

Interested parties are invited to comment on the completeness of this list of completed scope inquiries and scope/circumvention inquiry combinations made during the period January 1, 2025, through March 31, 2025. Any comments should be submitted to the Deputy Assistant Secretary for AD/CVD Operations, Enforcement and Compliance, International Trade Administration, via email to CommerceCLU@trade.gov.

This notice is published in accordance with 19 CFR 351.225(o).

Dated: April 23, 2025.
Scot Fullerton,
Acting Deputy Assistant Secretary for Antidumping and Countervailing Duty Operations.

[FR Doc. 2025-07356 Filed 4-28-25; 8:45 am]

BILLING CODE 3510-DS-P